DEPARTMENT OF COMMERCE

National Oceanic and Atmospheric Administration

50 CFR Part 660

[I.D. 102903C]

Fisheries Off West Coast States and in the Western Pacific; Western Pacific Pelagic Fisheries; Public Hearing on Draft Supplemental Environmental Impact Statement

AGENCY: National Marine Fisheries Service (NMFS), National Oceanic and Atmospheric Administration (NOAA), Commerce.

ACTION: Notification of public hearing.

SUMMARY: The Pacific Islands Regional Office of NMFS, in coordination with the Western Pacific Fishery Management Council (Council), will hold a public hearing in Honolulu, Hawaii, to receive comments on a draft supplemental environmental impact statement (DSEIS) for proposed management measures under the Fishery Management Plan for the Pelagic Fisheries of the Western Pacific Region, under the authority of the Magnuson-Stevens Fishery Conservation and Management Act. The DSEIS describes and assesses the likely environmental impacts of a range of alternative fishery management actions that are focused on the management of the pelagic longline fisheries, particularly with respect to interactions between sea turtles and the Hawaii-based longline fleet.

DATES: The public hearing will be held on February 18, 2004, from 6 to 8 p.m. Hawaii Standard Time.

ADDRESSES: The public hearing will be held in the Ala Moana Hotel (Carnation Room, second floor), 410 Atkinson Drive, Honolulu, Hawaii.

FOR FURTHER INFORMATION CONTACT: Tom Graham, NMFS, 808-973-2937.

SUPPLEMENTARY INFORMATION: The DSEIS was made available to the public on January 23, 2004, as described in a Notice of Availability published in the Federal Register by the Environmental Protection Agency on that date. The public comment period for the DSEIS ends February 23, 2004.

To obtain a copy of the DSEIS or for additional information, contact NMFS (see FOR FURTHER INFORMATION CONTACT). The DSEIS and related documents are also available on the Internet at http://swr.nmfs.noaa.gov/pir/ and http:// www.wpcouncil.org.

Special Accommodations

This hearing is physically accessible to people with disabilities. Requests for sign language interpretation or other auxiliary aids should be directed to Tom Graham, (808) 973-2937 (voice) or (808) 973-2941 (fax), by February 17, 2004.

Authority: 16 U.S.C. 1801 et seq.

Dated: February 10, 2004.
Peter Fricke,
Acting Director, Office of Sustainable Fisheries, National Marine Fisheries Service.

[FR Doc. 04-3277 Filed 2-12-04; 8:45 am]

BILLING CODE 3510-22-S